SMALL BUSINESS ADMINISTRATION

[Disaster Declaration #20459 and #20460; SAN CARLOS APACHE TRIBE Disaster Number AZ-20005]

Presidential Declaration of a Major Disaster for the San Carlos Apache Tribe

AGENCY: U.S. Small Business Administration.

ACTION: Notice.

SUMMARY: This is a Notice of the Presidential declaration of a major disaster for the San Carlos Apache Tribe (FEMA-4833-DR), dated October 4, 2024.

DATES: Issued on October 4, 2024.

Physical Loan Application Deadline Date: December 3, 2024.

Economic Injury (EIDL) Loan Application Deadline Date: July 7, 2025.

ADDRESSES: Visit the MySBA Loan Portal at https://lending.sba.gov to apply for a disaster assistance loan.

FOR FURTHER INFORMATION CONTACT: Alan Escobar, Office of Disaster Recovery & Resilience, U.S. Small Business Administration, 409 3rd Street SW, Suite 6050, Washington, DC 20416, (202) 205-6734.

SUPPLEMENTARY INFORMATION: Notice is hereby given that as a result of the President's major disaster declaration on October 4, 2024, applications for disaster loans may be submitted online using the MySBA Loan Portal https://lending.sba.gov or other locally announced locations. Please contact the SBA disaster assistance customer service center by email at disastercustomerservice@sba.gov or by phone at 1-800-659-2955 for further assistance.

The following areas have been determined to be adversely affected by the disaster:

Incident: Watch Fire.

Incident Period: July 10, 2024 through July 17, 2024.

Primary Area (Physical Damage and Economic Injury Loans): San Carlos Apache Tribe.

Contiguous Counties (Economic Injury Loans Only):

Arizona: Gila, Graham, Pinal.

The Interest Rates are:

| Percent
For Physical Damage:
Homeowners with Credit Available Elsewhere | 5.375
Homeowners without Credit Available Elsewhere | 2.688
Businesses with Credit Available Elsewhere | 8.000
Businesses without Credit Available Elsewhere | 4.000
Non-Profit Organizations with Credit Available Elsewhere | 3.250
Non-Profit Organizations without Credit Available Elsewhere | 3.250
For Economic Injury:
Business and Small Agricultural Cooperatives without Credit Available Elsewhere | 4.000
Non-Profit Organizations without Credit Available Elsewhere | 3.250

The number assigned to this disaster for physical damage is 204595 and for economic injury is 204600.

(Catalog of Federal Domestic Assistance Number 59008)

Rafaela Monchek,
Deputy Associate Administrator, Office of Disaster Recovery & Resilience.

[FR Doc. 2024-23807 Filed 10-15-24; 8:45 am]

BILLING CODE 8026-09-P